DEPARTMENT OF TRANSPORTATION

Federal Railroad Administration

[Docket Number FRA-2021-0042]

Notice of Petition for Waiver of Compliance

AGENCY: Federal Railroad Administration (FRA), Department of Transportation (DOT).

ACTION: Notice.

SUMMARY: This document provides the public notice that Union Pacific Railroad (UPRR) petitioned FRA for relief from certain regulations concerning training requirements.

DATES: FRA must receive comments on the petition by February 23, 2026. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Check Kam, Rail Safety Specialist, FRA Motive Power & Equipment Division, telephone: 202-366-2139, email: check.kam@dot.gov.

SUPPLEMENTARY INFORMATION: Under part 211 of title 49 Code of Federal Regulations (CFR), this document provides the public notice that by undated letter received October 10, 2025 UPRR petitioned FRA for relief from certain provisions of the Federal railroad safety regulations contained at 49 CFR part 232, Brake System Safety Standards for Freight and Other Non-Passenger Trains and Equipment; End-of-Train Devices. The relevant Docket Number is FRA-2021-0042.

Specifically, UPRR seeks relief from § 232.203(b)(8), Training requirements, to use three-dimensional simulations using web-based or desktop software to satisfy the “hands-on” portion of periodic refresher training for transportation employees.¹ UPRR states that it believes the “systematic, blending training curriculum . . . exceeds the training objectives” of the regulations.

¹ UPRR notes that this petition is a resubmittal, as FRA denied UPRR's past request in this docket in https://www.regulations.gov/document/FRA-2021-0042-0006.

In support of its request, UPRR states that “using simulations enhances employee safety by allowing learners to practice in controlled, low-risk settings, reducing the chance of incidents or injuries compared to a real-world training.” Further, UPRR suggests that that the “more controlled training environment allows UP's designated instructors to observe and evaluate a user's ability,” reduces subjectivity of evaluators, and is more user-centered, as it is self-paced.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by February 23, 2026 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2026-01327 Filed 1-22-26; 8:45 am]

BILLING CODE 4910-06-P